DEPARTMENT OF COMMERCE

International Trade Administration

[A-122-838]

Notice of Final Results of Antidumping Duty Administrative Review: Certain Softwood Lumber Products From Canada

AGENCY: Import Administration, International Trade Administration, Department of Commerce

EFFECTIVE DATE: December 12, 2005.

FOR FURTHER INFORMATION CONTACT: Constance Handley or Salim Bhabhrawala, at (202) 482-0631 or (202) 482-1784, respectively; AD/CVD Operations, Office 1, Import Administration, International Trade Administration, U.S. Department of Commerce, 14th Street & Constitution Avenue, NW., Washington, DC 20230.

SUMMARY: On June 7, 2005, the Department of Commerce (the Department) published the preliminary results of its second administrative review of the antidumping duty order on certain softwood lumber from Canada. The review covers the following producers of subject merchandise: Abitibi-Consolidated Inc. (Abitibi), Buchanan Lumber Sales, Inc. (Buchanan), Canfor Corporation (Canfor), Tembec Inc. (Tembec), Tolko Industries, Inc. (Tolko), Weldwood of Canada Limited (Weldwood), West Fraser Mills Ltd. (West Fraser), and Weyerhaeuser Company (Weyerhaeuser). In addition, based on the preliminary results for these respondents selected for individual review, we have also determined a weighted-average margin for those companies that requested, but were not selected for, individual review. The period of review (POR) is May 1, 2003, through April 30, 2004. We have noted the changes made since the preliminary results below in the “Changes Since the Preliminary Results” section. The final results are listed below in the “Final Results of Review” section.

SUPPLEMENTARY INFORMATION:

Background

On June 7, 2005, the Department published in the Federal Register the preliminary results of the second administrative review of the antidumping duty order on certain softwood lumber from Canada. See Notice of Preliminary Results of Antidumping Duty Administrative Review and Partial Resission: Certain Softwood Lumber from Canada, 70 FR 33063 (June 7, 2005) (Preliminary Results).

We invited parties to comment on the Preliminary Results. On July 25, 2005, we received case briefs from the above-mentioned respondents, the Coalition for Fair Lumber Imports Executive Committee (the petitioner), and other interested parties.¹ The parties submitted rebuttal briefs on August 8, 2005. A public hearing was requested and held on September 7, 2005.

¹ Case briefs were also received from the British Columbia Lumber Trade Council, the Ontario Forest Industries Association, the Quebec Lumber Manufacturers Association, the Independent Lumber Remanufacturers Association, Leggett & Platt Ltd., Lignum Forest Products, Ltd., Millar Western Forest Products, Ltd., Riverside Forest Products, Ltd., TFL Forest Ltd., Central Cedar Ltd., Commonwealth Plywood Company, Ltd., Fontaine Inc., Olav Haavaldsrud Inc., Produits Forestiers P. Proulux Inc., Carrier Forest Products Ltd., Carrier Lumber Ltd., Cheslatta Forest Products Ltd., Galloway Lumber Co. Ltd., Pope & Talbot Inc., Sigurdson Bros. Logging Company Ltd., Stuart Lake Lumber Co. Ltd., Stuart Lake Marketing Corporation, Teal-Jones Group, Terminal Forest Products Ltd., West Chilcotin Forest Products Ltd., Wynndel Box & Lumber Co. Ltd., and the Maritimes Lumber Bureau and the Maritime Companies.

Scope of the Order

The products covered by this order are softwood lumber, flooring and siding (softwood lumber products). Softwood lumber products include all products classified under headings 4407.1000, 4409.1010, 4409.1090, and 4409.1020, respectively, of the Harmonized Tariff Schedule of the United States (HTSUS), and any softwood lumber, flooring and siding described below. These softwood lumber products include:

(1) Coniferous wood, sawn or chipped lengthwise, sliced or peeled, whether or not planed, sanded or finger-jointed, of a thickness exceeding six millimeters;

(2) Coniferous wood siding (including strips and friezes for parquet flooring, not assembled) continuously shaped (tongued, grooved, rabbeted, chamfered, v-jointed, beaded, molded, rounded or the like) along any of its edges or faces, whether or not planed, sanded or finger-jointed;

(3) Other coniferous wood (including strips and friezes for parquet flooring, not assembled) continuously shaped (tongued, grooved, rabbeted, chamfered, v-jointed, beaded, molded, rounded or the like) along any of its edges or faces (other than wood moldings and wood dowel rods) whether or not planed, sanded or finger-jointed; and

(4) Coniferous wood flooring (including strips and friezes for parquet flooring, not assembled) continuously shaped (tongued, grooved, rabbeted, chamfered, v-jointed, beaded, molded, rounded or the like) along any of its edges or faces, whether or not planed, sanded or finger-jointed.

Although the HTSUS subheadings are provided for convenience and customs purposes, the written description of the merchandise under investigation is dispositive. Preliminary scope exclusions and clarifications were published in three separate Federal Register notices.

Softwood lumber products excluded from the scope:

• Trusses and truss kits, properly classified under HTSUS 4418.90.

• I-joist beams.

• Assembled box spring frames.

• Pallets and pallet kits, properly classified under HTSUS 4415.20.

• Garage doors.

• Edge-glued wood, properly classified under HTSUS 4421.90.97.40 (formerly HTSUS 4421.90.98.40).

• Properly classified complete door frames.

• Properly classified complete window frames.

• Properly classified furniture.

Softwood lumber products excluded from the scope only if they meet certain requirements:

• Stringers (pallet components used for runners): If they have at least two notches on the side, positioned at equal distance from the center, to properly accommodate forklift blades, properly classified under HTSUS 4421.90.97.40 (formerly HTSUS 4421.90.98.40).

• Box-spring frame kits: If they contain the following wooden pieces—two side rails, two end (or top) rails and varying numbers of slats. The side rails and the end rails should be radius-cut at both ends. The kits should be individually packaged, they should contain the exact number of wooden components needed to make a particular box spring frame, with no further processing required. None of the components exceeds 1″ in actual thickness or 83″ in length.

• Radius-cut box-spring-frame components, not exceeding 1″ in actual thickness or 83″ in length, ready for assembly without further processing. The radius cuts must be present on both ends of the boards and must be substantial cuts so as to completely round one corner.

• Fence pickets requiring no further processing and properly classified under HTSUS 4421.90.70, 1″ or less in actual thickness, up to 8″ wide, 6′ or less in length, and have finials or decorative cuttings that clearly identify them as fence pickets. In the case of dog-eared fence pickets, the corners of the boards should be cut off so as to remove pieces of wood in the shape of isosceles right angle triangles with sides measuring ¾ inch or more.

• U.S. origin lumber shipped to Canada for minor processing and imported into the United States, is excluded from the scope of this order if the following conditions are met: (1) The processing occurring in Canada is limited to kiln-drying, planing to create smooth-to-size board, and sanding, and 2) the importer establishes to U.S. Customs and Border Protection's (CBP) satisfaction that the lumber is of U.S. origin.²

² For further clarification pertaining to this exclusion, see the additional language concluding the scope description below.

• Softwood lumber products contained in single family home packages or kits,³ regardless of tariff classification, are excluded from the scope of the orders if the following criteria are met:

³ To ensure administrability, we clarified the language of this exclusion to require an importer certification and to permit single or multiple entries on multiple days, as well as instructing importers to retain and make available for inspection specific documentation in support of each entry.

1. The imported home package or kit constitutes a full package of the number of wooden pieces specified in the plan, design or blueprint necessary to produce a home of at least 700 square feet produced to a specified plan, design or blueprint;

2. The package or kit must contain all necessary internal and external doors and windows, nails, screws, glue, subfloor, sheathing, beams, posts, connectors and, if included in purchase contract, decking, trim, drywall and roof shingles specified in the plan, design or blueprint;

3. Prior to importation, the package or kit must be sold to a retailer of complete home packages or kits pursuant to a valid purchase contract referencing the particular home design plan or blueprint, and signed by a customer not affiliated with the importer;

4. The whole package must be imported under a single consolidated entry when permitted by CBP, whether or not on a single or multiple trucks, rail cars or other vehicles, which shall be on the same day except when the home is over 2,000 square feet;

5. The following documentation must be included with the entry documents:

• A copy of the appropriate home design, plan, or blueprint matching the entry;

• A purchase contract from a retailer of home kits or packages signed by a customer not affiliated with the importer;

• A listing of inventory of all parts of the package or kit being entered that conforms to the home design package being entered;

• In the case of multiple shipments on the same contract, all items listed immediately above which are included in the present shipment shall be identified as well.

We have determined that the excluded products listed above are outside the scope of this order provided the specified conditions are met. Lumber products that CBP may classify as stringers, radius cut box-spring-frame components, and fence pickets, not conforming to the above requirements, as well as truss components, pallet components, and door and window frame parts, are covered under the scope of this order and may be classified under HTSUS subheadings 4418.90.40.90, 4421.90.70.40, and 4421.90.98.40. Due to changes in the 2002 HTSUS whereby subheading 4418.90.40.90 and 4421.90.98.40 were changed to 4418.90.45.90 and 4421.90.97.40, respectively, we are adding these subheadings as well.

In addition, this scope language has been further clarified to now specify that all softwood lumber products entered from Canada claiming non-subject status based on U.S. country of origin will be treated as non-subject U.S.-origin merchandise under the antidumping and countervailing duty orders, provided that these softwood lumber products meet the following condition: Upon entry, the importer, exporter, Canadian processor and/or original U.S. producer establish to CBP's satisfaction that the softwood lumber entered and documented as U.S.-origin softwood lumber was first produced in the United States as a lumber product satisfying the physical parameters of the softwood lumber scope.⁴ The presumption of non-subject status can, however, be rebutted by evidence demonstrating that the merchandise was substantially transformed in Canada.

⁴ See the scope clarification message (3034202), dated February 3, 2003, to CBP, regarding treatment of U.S.-origin lumber on file in the Central Records Unit, Room B-099 of the main Commerce Building.

Analysis of Comments Received

The issues raised in the case briefs by parties to this administrative review are addressed in the Issues and Decision Memorandum from Stephen J. Claeys, Deputy Assistant Secretary, to Joseph A. Spetrini, Acting Assistant Secretary for Import Administration, (Decision Memorandum), dated December 5, 2005, which is hereby adopted by this notice. A list of the issues addressed in the Decision Memorandum is appended to this notice. The Decision Memorandum is on file in the Central Records Unit in Room B-099 of the main Commerce building, and can also be accessed directly on the Web at http://www.ia.ita.doc.gov/frn. The paper copy and electronic version of the Decision Memorandum are identical in content.

Changes Since the Preliminary Results

Based on our findings at verification, and analysis of comments received, we have made adjustments to the preliminary results calculation methodologies in calculating the final dumping margins in these proceedings. Brief descriptions of the company-specific changes are discussed below.

Abitibi

For the final results, we revised Abitibi's general and administrative expenses (G&A) to exclude legal fees associated with the AD/CVD proceedings and the fees associated with settlement negotiations. In addition, we have revised Abitibi's BC wood chip price and have ensured that the revised total cost of manufacturing is incorporated into the margin calculation. We have also added Produits Forestiers Saguenay Inc. (PFS) to the Abitibi Group and to all instructions to CBP.

Buchanan

The Department used the incorrect database in the calculation of Buchanan's cost of production in the preliminary margin calculation. Therefore, for the final results, we have used Buchanan's most up-to-date cost file on the record.

Canfor

We have corrected clerical errors identified by parties in Canfor's preliminary margin calculations as follows: (1) We have revised an aberrational entered value for one of Canfor's sales during the POR; (2) we have revised packing expenses to eliminate the double-counting of packing expenses associated with cost of manufacturing and made a packing cost correction as noted at verification for Slocan; (3) we have revised the profit rates for subperiod 1 and subperiod 2 of the POR; (4) we have revised the treatment of inventory carrying expenses denominated in U.S. dollars, in the comparison market programs, as they relate to the sales-below-cost test; (5) we have revised the treatment of certain Canadian rebates to correctly reflect an expense in the comparison market program and; (6) we have treated Slocan's futures profits as revenue and used them to offset indirect selling expenses (including inventory carrying cost) incurred in the United States, capped by the amount of those expenses. In addition, we revised Canfor's G&A expenses to exclude legal fees associated with the AD/CVD proceedings. We have adjusted Canfor's reported total cost of manufacturing to account for purchases of logs from affiliated parties at non-arm's length prices. For the Lakeland entity, we included other income items in G&A expenses, which Canfor did not appropriately report in the G&A expenses. In addition, we excluded sundry income from Lakeland's financial expenses, as we included the appropriate portion of that income in Lakeland's G&A expenses. For the Canfor entity, we added back an investment item to the reported G&A expenses. We also moved certain loan expenses from G&A expenses and included them in financial expenses. For the Slocan entity, we deducted AD/CVD fees which were erroneously included in the G&A expenses.

Tembec

We adjusted the total by-product revenue for certain mills as well as the variable wood cost for certain mills. We corrected clerical errors identified by parties and the Department in Tembec's preliminary margin calculations as follows: (1) We recalculated Tembec's domestic indirect selling expenses for U.S. random-length sales; (2) we adjusted Tembec's U.S. indirect and domestic indirect selling expenses using the appropriate mill codes; (3) we corrected our calculation of freight revenue, which we had incorrectly converted to U.S. dollars; (4) we recalculated Tembec's U.S. direct selling expenses to include U.S. market advertising expenses; (5) we recalculated Tembec's variable cost of manufacturing to include Tembec's byproduct offset amounts, the company's purchase costs for green rough lumber, and the company's purchase costs for dry rough lumber; (6) we corrected an error in the recalculation of U.S. credit expenses; we noted that the fee for loading lumber onto trucks and rail cars had been erroneously double-counted in both movement and indirect selling expenses, we revised the program to correctly include this loading expense (in both U.S. and Canadian dollars) only in movement expenses; (7) we incorporated the variable for freight revenue in Canadians dollars into U.S. movement expenses; (8) we used Tembec's U.S. commission fields as reported (this field had erroneously been set to zero in the Preliminary Results).

Finally, we have included Tembec Industries Inc., Spruce Falls Inc. Marks Lumber Ltd., Produits Forestiers Temrex Limited Partnership, and Les Industries Davidson Inc. in the Tembec Group and in all instructions to CBP.

Tolko

For the final results, we used Tolko's reported G&A expenses which excludes legal fees associated with the AD/CVD proceedings which had been added to G&A expenses in the Preliminary Results.

In addition, we corrected three clerical errors found by parties in Tolko's preliminary margin calculation as follows: (1) We recalculated Tolko's credit expense for sales with price adjustments using payment and shipment fields correctly converted to SAS format; (2) we included Tolko's reported warranty expenses in direct selling expenses for CEP sales and; (3) we included Tolko's switching and diversion charges incurred in the U.S. market in Tolko's U.S. movement expenses.

Weldwood

For the Preliminary Results, the Department included an outdated program in the sequence of programs used to calculate the cost of production. For the final results, we incorporated the most recent cost file for Weldwood into the calculation.

West Fraser

We have recalculated West Fraser's G&A expenses to exclude association fees paid by West Fraser to the British Columbia Lumber Trade Counsel.

Weyerhaeuser

We have recalculated the entered value of all Weyerhaeuser sales imported by unaffiliated parties based on our determination that the submitted entered values for these sales were incorrect. We used the recalculated entered values in the de minimis test and the calculation of review-specific average assessment rate. In addition, we removed sales made under temporary import bond from the margin calculation. In the Preliminary Results, we adjusted Weyerhaeuser's by-product offset. For the final results using the by-product offset amounts submitted by Weyerhaeuser. Finally, we recalculated Weyerhaeuser's G&A expenses for the final results as follows: (1) We excluded association dues associated with the AD/CVD proceedings; (2) we included Weyerhaeuser's gain on the sale of minor timberlands, which had been excluded in the Preliminary Results, as an offset; (3) for our denominator in the G&A ratio calculation (cost of sales), we included research and development costs, which had been excluded in the Preliminary Results; and (4) we corrected a ministerial error in our calculation of the G&A expenses where integration costs were inadvertently double-counted in the Preliminary Results.

Review-Specific Average Rate

Due to the number of mandatory selected respondents, and complex circumstances unique to this review, the Department was not able to review all companies for which a review was requested. Therefore, the Department has determined a review-specific weighted-average margin for those companies that requested, but were not selected for, individual review. The review-specific average rate for these companies can be found in the final results below. This is distinguished from the “All Others” ⁵ rate, which is the weighted-average margin calculated in the investigation and which continues to apply to all exporters and producers which have not participated in a review.

⁵ See Notice of Determination Under Section 129 of the Uruguay Round Agreements Act: Antidumping Measures on Certain Softwood Lumber Products from Canada, 70 FR 22636 (May 2, 2005).

Final Results of Review

As a result of our review, we determine that the following weighted-average margins exist for the period of May 1, 2003, through April 30, 2004:

⁶ We note that Nakina Forest Products Limited is a division of Long Lake Forest Products, Inc., an affiliate of Buchanan Lumber Sales.

⁷ Canfor's weighted-average margin is based upon a weighted-average of Canfor's and Slocan's respective cash deposit rates prior to the merger. See Memorandum from Salim Bhabhrawala, International Trade Compliance Analyst to The File, Re: Analysis Memorandum For Canfor Corporation (December 5, 2005). We also note that, during the POR, Sinclar Enterprises Ltd. (Sinclar) acted as an affiliated reseller for Lakeland, an affiliate of Canfor. In this review, we reviewed the sales of Canfor and its affiliates; therefore, Canfor's weighted-average margin applies to all sales of subject merchandise produced by any member of the Canfor Group and sold by Sinclar. As Sinclar also separately requested a review, any sales of subject merchandise produced by another manufacturer and sold by Sinclar will receive the “Review-Specific Average” rate. Finally, we note that Canadian Forest Products, Ltd. is a wholly owned subsidiary of Canfor and will receive Canfor's weighted-average margin.

Producer | Weighted- average margin (percentage)
Abitibi (and its affiliates Produits Forestiers Petit Paris Inc.,Produits Forestiers La Tuque Inc., Produits Forestiers Sagenay Inc. and Societe En Commandite Scierie Opticiwan) | 2.52
Buchanan (and its affiliates Atikokan Forest Products Ltd.,Long Lake Forest Products Inc., Nakina Forest Products Limited,⁶ Buchanan Distribution Inc., Buchanan Forest Products Ltd.,Great West Timber Ltd., Dubreuil Forest Products Ltd.,Northern Sawmills Inc., McKenzie Forest Products Inc.,Buchanan Northern Hardwoods Inc., Northern Wood, and Solid Wood Products Inc.) | 2.86
Canfor ⁷ (and its affiliates Canfor Wood Products Marketing Ltd., Canadian Forest Products, Ltd., Bois Daaquam Inc. / Daaquam Lumber Inc., Lakeland Mills Ltd., The Pas Lumber Company Ltd. / Winton Sales, Howe Sound Pulp and Paper Limited Partnership, Winton Global Lumber Ltd., and Skeena Cellulose) | 1.36
Tembec.(and its affiliates Marks Lumber Ltd., Excel Forest Products, Les Industries Davidson Inc., Produits Forestiers Temrex Limited Partnership, Tembec Industries Inc., Spruce Falls Inc.) | 4.02
Tolko.(and its affiliates Gilbert Smith Forest Products Ltd., Compwood Products Ltd., and Pinnacle Wood Products Ltd. ) | 3.09
Weldwood | 0.61
West Fraser.(and its affiliates West Fraser Forest Products Inc. and Seehta Forest Products Ltd.) | 0.51
Weyerhaeuser (and its affiliate Weyerhaeuser Saskatchewan Ltd.) | 4.43

Review-Specific Average Rate Applicable to the Following Companies ⁸

2 by 4 Lumber Sales Ltd.

⁸ In the Preliminary Results, we listed companies on the review-specific rate list that did not request a review or have a review requested on them for the current review. Therefore, we have removed the following companies from the review specific-rate list for the final results: AFA Forest Products Inc., Associated Cedar Products, Ivis Wood Products, Lazy S Lumber, Mary's River Lumber, New West Lumber Ltd., Quadra Wood Products Ltd., Schols Cedar Products, Standard Building Products Ltd., Still Creek Forest Products Ltd., Taiga Forest Products, Western Cleanwood Preservers Ltd., and Western Wood Preservers Ltd. All of the above companies participated in the 1st Administrative Review and will continue to receive the review-specific average rate (3.78%) from that review.

605666 BC Ltd.

9027-7971 Quebec Inc. (Scierie Marcel Dumont)

9098-5573 Quebec Inc. (K.C.B. International)

A. L. Stuckless & Sons Limited

AJ Forest Products Ltd.

Alexandre Cote Ltee.

Allmac Lumber Sales Ltd.

Allmar International

Alpa Lumber Mills Inc.

American Bayridge Corporation

Apex Forest Products, Inc.

Apollo Forest Products Limited

Aquila Cedar Products Ltd.

Arbutus Manufacturing Limited

Ardew Wood Products, Ltd.

Armand Duhamel & Fils Inc.

Ashley Colter (1961) Limited

Aspen Planers Ltd.

Atco Lumber

Atlantic Pressure Treating Ltd.

Atlantic Warehousing Limited/Atlantic Warehousing Ltd.

Atlas Lumber (Alberta) Ltd.

AWL Forest Products

B & L Forest Products Ltd.

Bakerview Forest Products Inc.

Bardeaux et Cedres St-Honore Inc. (Bardeaux et Cedres)

Barrett Lumber Company/Barrett Lumber Company Limited

Barrette-Chapais Ltee.

Barry Maedel Woods & Timber

Bathurst Lumber (Division of UPM-Kymmene Miramichi Inc.)

Beaubois Coaticook Inc.

Blackville Lumber (Division of UPM-Kymmene Miramichi Inc.)

Blanchette et Blanchette Inc.

Bloomfield Lumber Limited

Bois Cobodex (1995) Inc.

Bois De L'Est F.B. Inc.

Bois Granval G.D.S. Inc.

Bois Kheops Inc.

Bois Marsoui G.D.S. Inc.

Bois Neos Inc.

Bois Nor Que Wood Inc.

Boisaco Inc.

Boscus Canada Inc.

Boucher Forest Products Ltd.

Bowater Canadian Forest Products Inc.

Bowater Incorporated

Bridgeside Forest Industries, Ltd.

Bridgeside Higa Forest Industries Ltd.

Brittainia Lumber Company Limited

Brouwer Excavating Ltd.

Brunswick Valley Lumber/Brunswick Valley Lumber Inc.

Buchanan Lumber

Busque & Laflamme Inc.

BW Creative Wood

Byrnexco Inc.

C. E. Harrison & Son Ltd./C. E. Harrison & Son Limited

Caledon Log Homes (FEWO)

Caledonia Forest Products Ltd.

Cambie Cedar Products Ltd.

Canadian Lumber Company Ltd.

Cando Contracting Ltd.

Canex International Lumber Sales Ltd.

CanWel Building Materials Ltd.

CanWel Distribution Ltd.

Canyon Lumber Company Ltd.

Cape Cod Wood Siding Inc.

Cardinal Lumber Manufacturing & Sales Inc.

Careau Bois Inc.

Carrier & Begin Inc

Carrier Forest Products Ltd.

Carrier Lumber Ltd.

Carson Lake Lumber

Cattermole Timber

CDS Lumber Products

Cedarland Forest Products Ltd.

Cedrico Lumber Inc. (Bois d'Oeuvre Cedrico Inc.)

Central Cedar Ltd.

Centurion Lumber Manufacturing (1983) Ltd.

Chaleur Sawmills

Chasyn Wood Technologies Inc.

Cheminis Lumber Inc.

Cheslatta Forest Products Ltd.

Chisholm's (Roslin) Ltd.

Choicewood Products Inc.

City Lumber Sales and Services Limited

Clair Industrial Dev. Corp. Ltd./Clair Industrial Development Corp. Ltd.

Clermond Hamel Ltee.

Coast Clear Wood Ltd.

Colonial Fence Mfg. Ltd.

Columbia Mills Ltd.

Comeau Lumber Limited

Commonwealth Plywood Company Ltd. dba Bois Clo-Val (formerly Bois Clo-Val Inc.), and Les Enterprises Atlas (formerly Les Enterprises Atlas (1985) Inc.)

Cooper Creek Cedar Ltd.

Cottles Island Lumber Co. Ltd.

Cowichan Lumber Ltd.

Crystal Forest Industries Ltd.

Curley Cedar Post & Rail

Cushman Lumber Company Inc.

D. S. McFall Holdings Ltd.

Dakeryn Industries Ltd.

Deep Cove Lumber

Delco Forest Products/Delco Forest Products Ltd.

Delta Cedar Products

Devlin Timber Company (1992) Limited

Devon Lumber Co. Ltd.

Doman Forest Products Limited

Doman Industries Limited

Doman Western Lumber Ltd.

Domexport Inc.

Domtar Inc.

Downie Timber Ltd.

Dunkley Lumber Ltd.

E. Tremblay Et. Fils Ltee.

Eacan Timber Canada Ltd.

Eacan Timber Limited/Eacan Timber Ltd.

Eacan Timber USA Ltd.

East Fraser Fiber Co. Ltd.

Eastwood Forest Products Inc.

Ed Bobocel Lumber 1993 Ltd.

Edwin Blaikie Lumber Ltd.

Elmira Wood Products Limited

Elmsdale Lumber Company Ltd./Elmsdale Lumber Co., Ltd.

ER Probyn Export Ltd.

Errington Cedar Products

Evergreen Empire Mills Incorporated

EW Marketing

F.L. Bodogh Lumber Co. Ltd.

Falcon Lumber Limited

Faulkner Wood Specialties Limited

Federated Co-operatives Limited

Fenclo Ltee

Finmac Lumber Limited

Fontaine Inc. (dba J. A. Fontaine et fils Incorporee), Bois Fontaine Inc., Gestion Natanis Inc., and Les Placements Jean-Paul Fontaine Ltee.⁹

⁹ In the Preliminary Results, we incorrectly listed Les Placements Jean-Paul Fontaine Ltee., as Paul Fontaine Ltee., and also as Les Placements Jean-Paul Fontaine Ltee. To correct this error we have removed Paul Fontaine Ltee., from the review-specific average rate list.

Forex Log & Lumber

Forstex Industries Inc.

Forwest Wood Specialties Inc.

Fraser Pacific Forest Products Inc.

Fraser Pacific Lumber Company

Fraser Papers Inc.

Fraser Pulp Chips Ltd.

Frasierview Cedar Products Ltd.

Frontier Mills Inc.

G.D.S. Valoribois Inc.

Galloway Lumber Co. Ltd.

Gerard Crete & Fils Inc.

Gestofor Inc.

Gogama Forest Products

Goldwood Industries Ltd.

Gorman Bros. Lumber Ltd.

Great Lakes MSR Lumber Ltd.

Greenwood Forest Products

Groupe Lebel

H. A. Fawcett & Son Limited

H. J. Crabbe & Sons Ltd.

Haida Forest Products Ltd.

Hainesville Sawmill Ltd.

Harrison's Home Building Centers

Harry Freeman & Son Ltd./Harry Freeman & Son Limited

Hefler Forest Products Ltd.

Hi-Knoll Cedar Inc.

Hilmoe Forest Products Ltd.

Hoeg Brothers Lumber Ltd.

Holdright Lumber Products Ltd.

Hudson Mitchell & Sons Lumber Inc.

Hughes Lumber Specialties Inc.

Hyak Specialty Wood Products Ltd.

Industrial Wood Specialties

Industries G.D.S. Inc.

Industries Perron Inc.

Interior Joinery Ltd.

International Forest Products Ltd.

Isidore Roy Limited

Ivor Forest Products Ltd.

J & G Logworks

J. A. Turner & Sons (1987) Limited

J.D. Irving, Ltd.

J.S. Jones Timber Ltd.

Jackpine Engineered Wood Products

Jackpine Forest Products Ltd.

Jackpine Group of Companies

Jamestown Lumber Company Limited/Jamestown Lumber Company Ltd.

Jasco Forest Products Ltd.

Jeffery Hanson

Julimar Lumber Co. Limited

Kenora Forest Products Ltd.

Kent Trusses Ltd.

Kenwood Lumber Ltd.

Kispiox Forest Products

Kitwanga Lumber Co. Ltd.

Kruger, Inc.

La Crete Sawmills Ltd.

Lakeburn Lumber Limited

Lamco Forest Products

Landmark Structural Lumber

Landmark Truss & Lumber Inc.

Langely Timber Company Ltd.

Langevin Forest Products, Inc.

Lattes Waska Laths Inc.

Lawsons Lumber Company Ltd.

Lecours Lumber Co. Limited

Ledwidge Lumber Co., Ltd.

Leggett & Platt (B.C.) Ltd.

Leggett & Platt Inc.

Leggett & Platt Ltd.

Les Bois d'Oeuvre Beaudoin & Gauthier Inc.

Les Bois S &P Grondin Inc.

Les Chantiers Chibougamau Ltee

Les Produits Forestiers D. G. Ltee.

Les Produits Forestiers Dube Inc.

Les Produits Forestiers F.B.M. Inc.

Les Produits Forestiers Maxibois Inc.

Les Produits Forestiers Miradas Inc. (Miradas Forest Products Inc.)

Les Scieries Du Lac St-Jean Inc.

Les Scieries Jocelyn Lavoie Inc.

Leslie Forest Products Ltd.

Lignum Ltd.

Lindsay Lumber Ltd.

Liskeard Lumber Limited

Littles Lumber Ltd.

Lonestar Lumber Inc.

Louisiana Pacific Corporation

Lousiana Malakwa

LP Canada Ltd.

LP Engineered Wood Products Ltd.

Lulumco Inc.

Lyle Forest Products Ltd.

M & G Higgins Lumber Ltd.

M. L. Wilkins & Son Ltd.

MacTara Limited

Maibec Industries Inc. (Industries Maibec Inc.)

Manitou Forest Products Ltd.

Maple Creek Saw Mills Inc.

Marcel Lauzon Inc.

Marine Way

Marwood Inc.

Marwood Ltd.

Materiaux Blanchet Inc.

Max Meilleur et Fils Ltee.

McCorquindale Holdings Ltd.

McNutt Lumber Company Ltd.

Mercury Manufacturing Inc.

Meunier Lumber Company Ltd.

MF Bernard Inc.

Mid America Lumber

Mid Valley Lumber Specialties Ltd.

Midway Lumber Mills Ltd.

Mill & Timber Products Ltd.

Millar Western Forest Products Ltd.

Millco Wood Products Ltd.

Miramichi Lumber Products

Mobilier Rustique (Beauce) Inc.

Monterra Lumber Mills Limited

Mountain View Specialty Reload Inc.

Murray A Reeves Forestry Limited

Murray Bros. Lumber Company Limited

N. F. Douglas Lumber Limited/N. F. Douglas Lumber Ltd.

Nechako Lumber Co., Ltd.

Newcastle Lumber Co. Inc.

New West Lumber

Nexfor Inc.

Nexfor Norbord

Nicholson and Cates Limited

Nickel Lake Lumber

Norbord Industries Inc.

Norbord Juniper and Norbord's sawmills at La Sarre Senneterre Quebec

NorSask Forest Products Inc.

North American Forest Products/North American Forest Products Ltd.

North American Forest Products Ltd. (Division Belanger)

North Atlantic Lumber Inc.

North Enderby Distribution Ltd. (N.E. Distribution)

North Enderby Timber Ltd.

North Mitchell Lumber Co. Ltd., Saran Cedar

North Shore Timber Ltd.

North Star Wholesale Lumber Ltd.

Northchip Ltd.

Northland Forest Products Ltd.

Olav Haavaldsrud Timber Company Limited

Olympic Industries Inc.

Optibois Inc.

P.A. Lumber & Planning Limited

Pacific Lumber Company

Pacific Lumber Remanufacturing Inc.

Pacific Northern Rail Contractors Corp.

Pacific Specialty Wood Products Ltd. (formerly Clearwood Industries Ltd.)

Pacific Wood Specialties

Pallan Timber Products Ltd.

Palliser Lumber Sales Ltd.

Pan West Wood Products Ltd.

Paragon Ventures Ltd. (Vernon Kiln and Millwork, Ltd. and 582912 BC, Ltd.)

Parallel Wood Products Ltd.

Pastway Planing Limited

Pat Power Forest Products Corporation

Patrick Lumber Company

Paul Vallee Inc.

Peak Forest Products Ltd.

Pharlap Forest Products Inc.

Pheonix Forest Products Inc.

Pleasant Valley Remanufacturing Ltd.

Pope & Talbot Inc./Pope & Talbot Ltd.

Porcupine Wood Products Ltd.

Portbec Forest Products Ltd. (Les Produits Forestiers Portbec Ltee.)

Portelance Lumber Capreol Ltd.

Power Wood Corp.

Precibois Inc.

Preparabois (2003) Inc.

Prime Lumber Limited

Pro Lumber Inc.

P. Proulx Forest Products Inc. (aka Proulx, Proulx Forest Products Inc. and Produits Forestiers P. Proulx Inc.)

Promobois G.D.S. Inc.

R. Fryer Forest Products Limited

Raintree Forest Products Inc.

Raintree Lumber Specialties Ltd.

Ramco Lumber Ltd.

Redtree Cedar Products Ltd.

Redwood Value Added Products Inc.

Rembos Inc.

Rene Bernard Inc.

Ridgewood Forest Products Ltd./Ridgewood Forest Products Limited

Rielly Industrial Lumber Inc.

Riverside Forest Products Limited

Rocam Lumber Inc. (Bois Rocam Inc.)

Rojac Cedar Products Inc.

Rojac Enterprises Inc.

Roland Boulanger & Cie Ltee

Russell White Lumber Limited

Sauder Moldings, Inc. (Ferndale)

Sauder Industries Limited

Scierie A&M St-Pierre Inc.

Scierie Adrien Arseneault Ltee

Scierie Alexandre Lemay & Fils Inc.

Scierie Chaleur/Scierie Chaleur Associes

Scierie Dion et Fils Inc.

Scierie Gallichan Inc.

Scierie Gauthier Ltee.

Scierie La Patrie, Inc.

Scierie Landrienne Inc.

Scierie Lapointe & Roy Ltee.

Scierie Leduc, Division of Stadacona Inc.

Scierie Nord-Sud Inc. (North-South Sawmill Inc.)

Scierie P.S.E. Inc.

Scierie St. Elzear Inc.

Scierie Tech Inc.

Scieries du Lac St. Jean Inc.

Selkirk Specialty Wood Ltd.

Sexton Lumber/Sexton Lumber Co. Limited

Seycove Forest Products Limited

Seymour Creek Cedar Products Ltd.

Shawood Lumber Inc.

Sigurdson Bros. Logging Company Ltd./Sigurdson Brothers Logging Company Ltd.

Silvermere Forest Products Inc.

Sinclar Enterprises Ltd.*

South Beach Trading Inc.

South River Planing Mills Inc.

South-East Forest Products Ltd.

Spray Lake Sawmills (1980) Ltd.

Spruce Forest Products Ltd.

Spruce Products Ltd.

St. Anthony Lathing Ltd.

Stag Timber

Stuart Lake Lumber Co. Ltd.

Stuart Lake Marketing Inc./Stuart Lake Marketing Corporation

Sunbury Cedar Sales Ltd.

Suncoast Lumber & Milling

Sundance Forest Industries

SWP Industries Inc.

Sylvanex Lumber Products Inc.

Taiga Forest Products

Tall Tree Lumber Company

Tarpin Lumber Incorporated

Taylor Lumber Company Ltd.

Teal Cedar Products Ltd.

Teal-Jones Group

Teeda Corp

Terminal Forest Products Ltd.

T.F. Specialty Sawmill

TFL Forest Ltd./TimberWest Forest Corp. / Timber West Forest Company

Timber Ridge Forest Products

TimberWorld Forest Products Inc.

T'loh Forest Products Limited

Top Quality Lumber Ltd.

T. P. Downey & Sons Ltd.

Treeline Wood Products Ltd.

Triad Forest Products

Twin Rivers Cedar Products Ltd.

Tyee Timber Products Ltd.

Uneeda Wood Products

Uniforet Inc.

Uniforet Scierie-Pate

Vancouver Specialty Cedar Products/Vancouver Specialty Cedar Products Ltd.

Vanderhoof Specialty Wood Products

Vandermeer Forest Products (Canada) Ltd.

Vanderwell Contractors (1971) Ltd.

Vanport Canada, Co.

Vernon Kiln and Millwork, Ltd.

Visscher Lumber Inc.

W. C. Edwards Lumber (formerly The W.C. Edwards Co. Ltd.)

W. I. Woodtone Industries Inc.

Welco Lumber Corporation

Wentworth Lumber Ltd.

Werenham Forest Products

West Bay Forest Products & Manufacturing Ltd./West Bay Forest Products and Manufacturing Ltd./West Bay Forest Products & Mfg. Ltd.

West Can Rail Ltd.

West Chilcotin Forest Products Ltd.

West Hastings Lumber Products

Weston Forest Corp.

West-Wood Industries/West-Wood Industries Ltd.

White Spruce Forest Products Ltd.

Wilfrid Paquet & Fils Ltee

Wilkerson Forest Products Ltd.

Williams Brothers Limited/Williams Brothers Ltd.

Winnipeg Forest Products, Inc.

Woodko Enterprises, Ltd.

Woodland Forest Products Ltd.

Woodline Forest Products Ltd.

Woodtone Industries Inc.

Woodwise Lumber Ltd.

Wynndel Box & Lumber Co. Ltd.

Zelensky Bros. Forest Products—2.11%

Assessment

The Department will determine, and CBP shall assess, antidumping duties on all appropriate entries, pursuant to 19 CFR 351.212(b). The Department calculated importer-specific duty assessment rates on the basis of the ratio of the total amount of antidumping duties calculated for the examined sales to the total entered value of the examined sales for that importer. Where the assessment rate is above de minimis, we will instruct CBP to assess duties on all entries of subject merchandise by that importer. For the companies requesting a review, but not selected for examination and calculation of individual rates, we will calculate a weighted-average assessment rate based on all importer-specific assessment rates excluding any which are de minimis or margins determined entirely on adverse facts available. Furthermore, the Department has calculated a unique importer-specific duty assessment rate for all producers/exporters of Maritimes Province origin lumber, which takes into account the exclusion of products from the Maritimes from the companion countervailing duty order.¹⁰ The Department will issue appropriate assessment instructions directly to CBP not before the 41st day after the date of publication of these final results of review.

¹⁰ See Decision Memorandum at Comment 2.

Cash Deposits

Furthermore, the following deposit requirements will be effective upon publication of the final results of this administrative review for all shipments of certain softwood lumber products from Canada entered, or withdrawn from warehouse, for consumption on or after the publication date of these final results, as provided by section 751(a) of the Tariff Act of 1930 (the Act), as amended: (1) For companies covered by this review, the cash deposit rate will be the rate listed above; (2) for previously reviewed or investigated companies not listed above, the cash deposit rate will continue to be the company-specific rate published for the most recent period; (3) if the exporter is not a firm covered in this review, a prior review, or the original less-than-fair-value investigation, but the producer is, the cash deposit rate will be the rate established for the most recent period for the manufacturer of the merchandise; and (4) the cash deposit rate for all other producers or exporters will be 11.54 percent, the “All Others” rate calculated in the Department's recent determination under section 129 of the Uruguay Round Agreement Act. See Notice of Determination Under Section 129 of the Uruguay Round Agreements Act: Antidumping Measures on Certain Softwood Lumber Products from Canada, 70 FR 22636 (May 2, 2005). These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred, and in the subsequent assessment of double antidumping duties.

This notice also is the only reminder to parties subject to administrative protective order (APO) of their responsibility concerning the return or destruction of proprietary information disclosed under APO in accordance with 19 CFR 351.305. Timely written notification of the return/destruction of APO materials or conversion to judicial protective order is hereby requested. Failure to comply with the regulations and the terms of an APO is a sanctionable violation.

We are issuing and publishing these results and notice in accordance with sections 751(a)(1) and 777(i)(1) of the Act.

Dated: December 5, 2005.
Joseph A. Spetrini,
Acting Assistant Secretary for Import Administration.

I. General Issues

Comment 1: Treatment of Sales Made on a Random-Lengths Basis.

Comment 2: Assessment Rate for Companies in the Maritimes.

Comment 3: Treatment of Non-Dumped Sales.

Comment 4: Review Should Be Terminated Because of the NAFTA ITC Decision.

Comment 5: Treatment of Countervailing Duties and Other Duty Deposits.

Comment 6: Use of Length-Specific Prices.

Comment 7: Name Changes.

Comment 8: Gains and Losses on the Closure and Sale or Disposal of a Production Facility.

Comment 9: Exchange Rate Gains and Losses.

Comment 10: Value-Based Cost Methodology.

Comment 11: Antidumping (AD) and Countervailing Duty (CVD) Defense Fees in General and Administrative (G&A) Expenses.

Comment 12: Wood Chips Byproduct Revenue.

II. Company-Specific Issues

Issues Specific to Abitibi

Comment 13: Specify that the Abitibi Group Deposit Rate in This Review Also Extends to Produits Forestiers Saguenay Inc.

Comment 14: Clerical Error Allegation Specific to Abitibi.

Issues Specific to Buchanan

Comment 15: Freight Expense Allocation Methodology.

Comment 16: Buchanan's Draft Liquidation Instructions.

Comment 17: Clerical Error Allegation Specific to Buchanan.

Issues Specific to Canfor

Comment 18: Deposit Rate for Canfor.

Comment 19: Additional Company Names As Importers of Record.

Comment 20: Canfor's Cost Reconciliation.

Comment 21: Canfor's G&A Offsets.

Comment 22: Inclusion of Purchase Costs for Commingled Lumber.

Comment 23: Logging Services from Affiliates.

Comment 24: Lakeland's G&A Offsets.

Comment 25: Lakeland's Interest Income.

Comment 26: Clerical Error Allegations Specific to Canfor.

Issues Specific to Tembec

Comment 27: Names of Tembec Companies.

Comment 28: Byproduct Offset Adjustment Factor.

Comment 29: Adjustment of Variable Wood Costs.

Comment 30: G&A Expense Rate—Consolidated vs. Producer.

Comment 31: Clerical Error Allegations Specific to Tembec.

Issues Specific to Tolko

Comment 32: Log Purchases from Affiliated Parties.

Comment 33: Clerical Error Allegations Specific to Tolko.

Issues Specific to Weldwood

Comment 34: Allocation of Wood Costs.

Comment 35: Clerical Error Allegation Specific to Weldwood.

Issues Specific to West Fraser

Comment 36: Order is Not Valid for West Fraser and Should be Revoked.

Issues Specific to Weyerhaeuser

Comment 37: Level of Trade for Weyerhaeuser's VMI sales.

Comment 38: Assessment for Weyerhaeuser's Unaffiliated Importers of Record.

Comment 39: Log Cost Allocation for British Columbia Coastal Operations.

Comment 40: Calculation of Various G&A Expenses.

Comment 41: Clerical Error Allegations Specific to Weyerhaeuser.

[FR Doc. 05-23932 Filed 12-9-05; 8:45 am]

BILLING CODE 3510-DS-P